NUCLEAR REGULATORY COMMISSION

Advisory Committee on Reactor Safeguards, Subcommittee Meeting on Safeguards and Security; Notice of Meeting

The ACRS Subcommittee on Safeguards and Security will hold a closed meeting on August 24-26, 2004, at Sandia National Laboratories, Albuquerque, New Mexico.

The entire meeting will be closed to public attendance to protect information classified as national security information and safeguards information pursuant to 5 U.S.C. 552b(c)(1) and (3).

The agenda for the subject meeting shall be as follows:

Tuesday, Wednesday and Thursday, August 24-26, 2004—8:30 a.m. Until the Conclusion of Business

The Subcommittee will hear presentations from the NRC staff, NRC staff consultants, and representatives of the industry regarding safeguards and security issues. The purpose of this meeting is to gather information, analyze relevant issues and facts, and formulate proposed positions and actions, as appropriate, for deliberation by the full Committee.

Further information contact: Mr. Richard K. Major (telephone: 301-415-7366) or Dr. Richard P. Savio (telephone: 301-415-7362) between 7:30 a.m. and 4:15 p.m. (ET).

Dated: July 20, 2004.
Michael R. Snodderly,
Acting Associate Director for Technical Support, ACRS/ACNW.

[FR Doc. 04-16900 Filed 7-23-04; 8:45 am]

BILLING CODE 7590-01-P